DEPARTMENT OF STATE

[Public Notice 10863]

Certification Related to Foreign Military Financing for Colombia Under Section 7045(B)(4) of the Department of State, Foreign Operations, and Related Programs Appropriations Act, 2019

Pursuant to the authority vested in the Secretary of State, including under section 7045(b)(4) of the Department of State, Foreign Operations, and Related Programs Appropriations Act, 2019 (Div. F, Pub. L. 116-6), I hereby certify and report that:

(A) the Special Jurisdiction for Peace and other judicial authorities are taking effective steps to hold accountable perpetrators of gross violations of human rights in a manner consistent with international law, including for command responsibility, and to sentence them to deprivation of liberty;

(B) the Government of Colombia is taking effective steps to reduce attacks against human rights defenders and other civil society activists, trade unionists, and journalists, and judicial authorities are prosecuting those responsible for such attacks; and

(C) senior military officers responsible for ordering, committing, and covering up cases of false positives are being held accountable, including removal from active duty if found guilty through criminal or disciplinary proceedings.

This Certification shall be published in the Federal Register and shall be transmitted, along with the accompanying Memorandum of Justification, to the appropriate committees of Congress.

Dated: August 13, 2019.
Michael R. Pompeo,
Secretary of State.

[FR Doc. 2019-18588 Filed 8-27-19; 8:45 am]

BILLING CODE 4710-29-P